INTERNATIONAL TRADE COMMISSION

[Investigation Nos. 701-TA-570 and 731-TA-1346 (Review)]

Aluminum Foil From China

Determinations

On the basis of the record ¹ developed in the subject five-year reviews, the United States International Trade Commission (“Commission”) determines, pursuant to the Tariff Act of 1930 (“the Act”), that revocation of the antidumping and countervailing duty orders on aluminum foil from China would be likely to lead to continuation or recurrence of material injury to an industry in the United States within a reasonably foreseeable time.

¹ The record is defined in § 207.2(f) of the Commission's Rules of Practice and Procedure (19 CFR 207.2(f)).

Background

The Commission instituted these reviews on March 1, 2023 (88 FR 12990) and determined on June 5, 2023 that it would conduct expedited reviews (88 FR 44155, July 11, 2023).

The Commission made these determinations pursuant to section 751(c) of the Act (19 U.S.C. 1675(c)). It completed and filed its determinations in these reviews on September 19, 2023. The views of the Commission are contained in USITC Publication 5459 (September 2023), entitled Aluminum Foil from China: Investigation Nos. 701-TA-570 and 731-TA-1346 (Review).

By order of the Commission.
Issued: September 19, 2023.
Katherine Hiner,
Supervisory Attorney.

[FR Doc. 2023-20594 Filed 9-21-23; 8:45 am]

BILLING CODE 7020-02-P